DEPARTMENT OF TRANSPORTATION

Federal Aviation Administration

14 CFR Part 39

[Docket No. FAA-2012-0982; Directorate Identifier 2012-CE-035-AD]

RIN 2120-AA64

Airworthiness Directives; Stemme GmbH & Co. KG Powered Sailplanes

AGENCY: Federal Aviation Administration (FAA), Department of Transportation (DOT).

ACTION: Notice of proposed rulemaking (NPRM).

SUMMARY: We propose to adopt a new airworthiness directive (AD) for all Stemme GmbH & Co. KG Models S10, S10-V, and S10-VT powered sailplanes. This proposed AD results from mandatory continuing airworthiness information (MCAI) originated by an aviation authority of another country to identify and correct an unsafe condition on an aviation product. The MCAI describes the unsafe condition as unapproved rubber hoses installed in the engine fuel, oil, and cooling systems, which could lead to a system leak and result in an engine fire. We are issuing this proposed AD to require actions to address the unsafe condition on these products.

DATES: We must receive comments on this proposed AD by November 2, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact STEMME AG, Flugplatzstrasse F2, Nr. 7 15344 Strausberg, Germany; telephone: +49 (0) 3341 3612-0, fax: +49 (0) 3341 3612-30; Internet: http://www.stemme.de/daten/e/index.html. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2012-0982; Directorate Identifier 2012-CE-035-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No. 2012-0154, dated August 17, 2012 (referred to after this as “the MCAI”), to correct an unsafe condition for the specified products. The MCAI states:

An occurrence has been reported of an engine fire during ground run of a S10-VT powered sailplane. The investigation results indicated that an unapproved fuel hose was installed in the engine fuel system of that aeroplane. Subsequent survey of some N-registered S 10 aeroplanes revealed more cases of installation of unapproved fuel, oil and cooling hoses on sailplanes engine systems.

This condition, if not detected and corrected, could lead to a system leak with subsequent engine fire, possibly resulting in damage to the sailplane and/or injury of occupants.

Prompted by these findings, Stemme GmbH developed a procedure for identification of these hoses, to have them removed from service.

For the reasons described above, this AD requires a one-time review of the sailplane's maintenance records to determine whether a serviceable engine hose kit for fuel, oil and cooling systems has been installed and, depending on findings, replacement of the affected hoses with serviceable parts.

You may obtain further information by examining the MCAI in the AD docket.

Relevant Service Information

Stemme F & D has issued Installation Instruction A34-10-093-01, dated August 13, 2012; and Installation Instruction A34-10-093-02, dated August 13, 2012. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 63 products of U.S. registry. We also estimate that it would take about .5 work-hour per product to comply with the basic requirements of this proposed AD. The average labor rate is $85 per work-hour.

Based on these figures, we estimate the cost of the proposed AD on U.S. operators to be $2,677.50, or $42.50 per product.

In addition, we estimate that any necessary follow-on actions would take about 8 work-hours and require parts costing $1,957, for a cost of $2,637 per product for Models S10 and S10-V. We also estimate that any necessary follow-on actions would take about 16 work-hours and require parts costing $1,311, for a cost of $2,671 per product for Model S10-VT. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Stemme GmbH & Co. KG: Docket No. FAA-2012-0982; Directorate Identifier 2012-CE-035-AD.

(a) Comments Due Date

We must receive comments by November 2, 2012.

(b) Affected ADs

None.

(c) Applicability

This AD applies to Stemme GmbH & Co. KG Models S10, S10-V, and S10-VT powered sailplanes, all serial numbers, certificated in any category.

(d) Subject

Air Transport Association of America (ATA) Code 71: Powerplant.

(e) Reason

This AD was prompted by mandatory continuing airworthiness information (MCAI) originated by an aviation authority of another country to identify and correct an unsafe condition on an aviation product. The MCAI describes the unsafe condition as unapproved rubber hoses installed in the engine fuel, oil, and cooling systems. We are issuing this proposed AD to prevent a system leak, which could lead to an engine fire.

(f) Actions and Compliance

Unless already done, do the following actions:

(1) If, on the effective date of this AD, the date of manufacture of the sailplane is less than five years old, before further flight after the effective date of this AD, review the sailplane's maintenance records/logbook for evidence as to whether the engine fuel, oil, and cooling systems rubber hoses have been replaced since new. Based on this review, if:

(i) There is no logbook evidence, i.e. logbook entry, that the engine fuel, oil, and cooling systems rubber hoses have been replaced since new, before further flight, make a logbook entry showing compliance with this AD.

(ii) There is logbook evidence, i.e. logbook entry, that the engine fuel, oil, and/or cooling systems rubber hoses have been replaced since new, before further flight, review the sailplane's maintenance records/logbook for current documentation of hose conformity through a Declaration of Conformity (DoC) or a European Aviation Safety Agency (EASA) Form 1.

(A) If you can find current documentation of a DoC or an EASA Form 1, before further flight, make a logbook entry showing compliance with this AD.

(B) If you cannot find current documentation of a DoC or an EASA Form 1, before further flight, replace the affected hose(s) with FAA-approved serviceable hoses following Stemme F & D Installation Instruction A34-10-093- 01, dated August 13, 2012; or Stemme F & D Installation Instruction A34-10-093- 02, dated August 13, 2012, as applicable.

(2) If, on the effective date of this AD, the date of manufacture of the sailplane is five years old or older, before further flight after the effective date of this AD, review the sailplane's maintenance records/logbook for evidence of the date the engine fuel, oil, and cooling systems rubber hoses were last replaced and for documentation of hose conformity through a DoC or a EASA Form 1. Based on this review, if:

(i) There is logbook evidence, i.e. logbook entry, that the installed engine fuel, oil, and cooling systems rubber hoses are less than five years old and there is current documentation of hose conformity with a DoC or an EASA Form 1, before further flight, make a logbook entry showing compliance with this AD.

(ii) There is logbook evidence, i.e. logbook entry, that the installed engine fuel, oil, and cooling systems rubber hoses are less than five years old, but there is no current documentation of hose conformity with a DoC or an EASA Form 1, before further flight, replace the affected hoses with FAA-approved serviceable hoses following Stemme F & D Installation Instruction A34-10-093- 01, dated August 13, 2012; or Stemme F & D Installation Instruction A34-10-093- 02, dated August 13, 2012, as applicable.

(iii) There is logbook evidence, i.e. logbook entry, that the installed engine fuel, oil, and cooling systems rubber hoses are over five years, before further flight, replace the hoses with FAA-approved serviceable hoses following Stemme F & D Installation Instruction A34-10-093- 01, dated August 13, 2012; or Stemme F & D Installation Instruction A34-10-093- 02, dated August 13, 2012, as applicable.

(3) As of the effective date of this AD, only install FAA-approved serviceable engine fuel, oil, and cooling systems rubber hoses following Stemme F & D Installation Instruction A34-10-093- 01, dated August 13, 2012; or Stemme F & D Installation Instruction A34-10-093- 02, dated August 13, 2012, as applicable, and that have a current documentation of hose conformity, i.e., DoC or EASA Form 1.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI EASA AD No. 2012-0154, dated August 17, 2012; Stemme F & D Installation Instruction A34-10-093- 01, dated August 13, 2012; and Stemme F & D Installation Instruction A34-10-093- 02, dated August 13, 2012, for related information. For service information related to this AD, contact STEMME AG, Flugplatzstrasse F2, Nr. 7 15344 Strausberg, Germany; telephone: +49 (0) 3341 3612-0, fax: +49 (0) 3341 3612-30; Internet: http://www.stemme.de/daten/e/index.html. You may review copies of the referenced service information at the FAA, Small Airplane Directorate, 901 Locust, Kansas City, Missouri 64106. For information on the availability of this material at the FAA, call (816) 329-4148.

Issued in Kansas City, Missouri, on September 11, 2012.
Earl Lawrence,
Manager, Small Airplane Directorate, Aircraft Certification Service.

[FR Doc. 2012-22941 Filed 9-17-12; 8:45 am]

BILLING CODE 4910-13-P